DEPARTMENT OF VETERANS AFFAIRS

[OMB Control No. 2900-0822]

Agency Information Collection Activity Under OMB Review: Camp Lejeune Family Member Program—Reimbursement of Certain Medical Expenses

AGENCY: Veterans Health Administration, Department of Veterans Affairs.

ACTION: Notice.

SUMMARY: In compliance with the Paperwork Reduction Act (PRA) of 1995, this notice announces that the Veterans Health Administration (VHA), Department of Veterans Affairs, will submit the collection of information abstracted below to the Office of Management and Budget (OMB) for review and comment. The PRA submission describes the nature of the information collection and its expected cost and burden, and it includes the actual data collection instrument.

DATES: Comments and recommendations for the proposed information collection should be sent by September 2, 2025.

ADDRESSES: To submit comments and recommendations for the proposed information collection, please type the following link into your browser: www.reginfo.gov/public/do/PRAMain, select “Currently under Review—Open for Public Comments,” then search the list for the information collection by Title or “OMB Control No. 2900-0822.”

FOR FURTHER INFORMATION CONTACT: VA PRA information: Dorothy Glasgow, 202-461-1084, VAPRA@va.gov.

SUPPLEMENTARY INFORMATION:

Title: Camp Lejeune Family Member Program—Reimbursement of Certain Medical Expenses (VA Forms 10-10068, 10-10068a, 10-10068b and 10-10068c).

OMB Control Number: 2900-0822. https://www.reginfo.gov/public/do/PRASearch.

Type of Review: Revision of a currently approved collection.

Abstract: Pursuant to 38 U.S.C. 1787, VA is required to furnish hospital care and medical services to the family members of certain veterans who were stationed at Camp Lejeune between 1953 and 1987 and have specified medical conditions. The specific hospital care and medical services that VA must provide are for a number of illnesses and conditions connected to exposure to contaminated drinking water while at Camp Lejeune. In order to furnish such care, VA must collect necessary information from the family members to ensure that they meet the requirements of the law.

The forms in this collection are VA Form 10-10068—Application, VA Form 10-10068a—Claim Form, VA Form 10-10068b—Treating Physician Report, and VA Form 10-10068c—Information Update Form. These forms will be used to determine eligibility and reimbursement for the covered medical care. Some minor changes to the wording in VA Form 10-10068b have been made to clarify the information being collected from the treating physician. Also, VA Form 10-10068b may now be used twice annually per patient rather than once annually. There is an associated increase in the estimated burden hours for the collection.

An agency may not conduct or sponsor, and a person is not required to respond to a collection of information unless it displays a currently valid OMB control number. The Federal Register Notice with a 60-day comment period soliciting comments on this collection of information was published at 90 FR 22832, May 29, 2025.

Affected Public: Individuals or Households.

Estimated Annual Burden: Total hours = 6,246 hours.

10-10068—815 hours.

10-10068a—4,480 hours.

10-10068b—815 hours.

10-10068c—136 hours.

Estimated Average Burden Per Respondent:

10-10068—30 minutes.

10-10068a—15 minutes.

10-10068b—15 minutes.

10-10068c—15 minutes.

Frequency of Response:

10-10068—Once annually.

10-10068a—11 times per year.

10-10068b—2 times per year.

10-10068c—Once annually.

Estimated Number of Responses: Total Responses = 23,349.

10-10068—1,629.

10-10068a—17,919.

10-10068b—3,258.

10-10068c—543.

Authority: 44 U.S.C. 3501 et seq.

Dorothy Glasgow,
Acting, VA PRA Clearance Officer, Office of Enterprise and Integration, Data Governance Analytics, Department of Veterans Affairs.

[FR Doc. 2025-14570 Filed 7-31-25; 8:45 am]

BILLING CODE 8320-01-P